DEPARTMENT OF COMMERCE

International Trade Administration

[A-570-863]

Notice of Preliminary Results of Antidumping Duty New Shipper Review: Honey from the People's Republic of China

AGENCY: Import Administration, International Trade Administration, Department of Commerce.

ACTION: Notice of Preliminary Results of Antidumping Duty New Shipper Review.

SUMMARY: In response to a request from Wuhan Bee Healthy Co., Ltd. (Wuhan), the Department of Commerce (the Department) is conducting a new shipper review of the antidumping duty order on honey from the People's Republic of China. The period of review covers the period December 1, 2001, through May 31, 2002. The preliminarily results are listed below in the section titled “Preliminary Results of Review.” Interested parties are invited to comment on these preliminary results.

EFFECTIVE DATE: June 3, 2003.

FOR FURTHER INFORMATION CONTACT: Angelica Mendoza at (202) 482-3019 or Donna Kinsella at (202) 482-0194; Antidumping and Countervailing Duty Enforcement Group III, Office Eight, Import Administration, International Trade Administration, U.S. Department of Commerce, 14th Street and Constitution Avenue NW, Washington, DC 20230.

SUPPLEMENTARY INFORMATION:

Background

The Department published in the Federal Register an antidumping duty order on honey from the PRC on December 10, 2001. See Notice of Amended Final Determination of Sales at Less Than Fair Value and Antidumping Duty Order; Honey from the People's Republic of China, 66 FR 63670 (December 10, 2001). On June 25, 2002, the Department received from Wuhan Bee Healthy Co., Ltd. (Wuhan), a producer and exporter of the subject merchandise, a properly filed request for a new shipper review under the antidumping duty order on honey from the PRC, in accordance with section 751(a)(2)(B) of the Act and section 351.214(c) of the Department's regulations. Under these provisions, an exporter that is also a producer of the subject merchandise, in requesting a new shipper review, must certify to the following: (i) it did not export the merchandise to the United States during the period of investigation (POI); and (ii) it is not affiliated with any exporter or producer who exported the subject merchandise during that period. Moreover, in an antidumping proceeding involving imports from a non-market economy country, the new shipper must also certify that its export activities are not controlled by the central government. If these provisions are met, the Department will conduct a new shipper review to establish an individual weighted-average dumping margin for such new shipper, if the Department has not previously established such a margin for the exporter or producer. (See generally section 351.214(b)(2) of the Department's regulations.)

The regulations further require that the exporter or producer include in its request documentation establishing: (i) the date on which the merchandise was first entered, or withdrawn from warehouse, for consumption, or, if it cannot establish the date of first entry, the date on which it first shipped the merchandise for export to the United States, or, if the merchandise has not yet been shipped or entered, the date of sale; (ii) the volume of that and subsequent shipments; and (iii) the date of the first sale to an unaffiliated customer. See section 351.214(b)(2)(iv).

Wuhan's request was accompanied by information and certifications establishing that it did not export the subject merchandise to the United States during the POI, and that it was not affiliated with any company which exported subject merchandise to the United States during the POI. Wuhan provided information and certifications that demonstrated the date on which it first shipped and entered honey for consumption in the United States, the volume of that shipment, and the date of the first sale to the unaffiliated customer in the United States. Additionally, Wuhan certified that its export activities are not controlled by the central government.

Because the Department determined that Wuhan's request met the requirements of section 351.214 of its regulations, on August 6, 2002, the Department published its initiation of this new shipper review for the period December 1, 2001, through May 31, 2002.¹ (See Honey from the People's Republic of China: Initiation of New Shipper Antidumping Duty Reviews (67 FR 50862, August 6, 2002).) Accordingly, the Department is now conducting this review in accordance with section 751 of the Act and section 351.214 of its regulations.

¹ We also initiated a new shipper review based on a request filed by Chengdu-Dujiangyan Dubao Bee Industrial Co., Ltd. (Dubao). However, on January 23, 2003, the Department rescinded the new shipper review with respect to Dubao. See Honey from the People's Republic of China: Partial Rescission of Antidumping Duty New Shipper Review, 68 FR 4760 (January 30, 2003).

On August 6, 2002, we issued the Department's antidumping duty questionnaire to Wuhan. On September 12, 2002, Wuhan submitted its Section A questionnaire response. On October 4, 2002, Wuhan submitted its Section C and D questionnaire responses. On October 18, 2002, petitioners submitted comments on Wuhan's section A, C, and D questionnaire responses.² On November 7, 2002, we issued a supplemental questionnaire covering Wuhan's questionnaire responses. On November 18, 2002, petitioners submitted a letter requesting that the Department conduct a verification of the responses submitted by Wuhan. On December 5, 2002, we received Wuhan's supplemental questionnaire response. On December 20, 2002, petitioners submitted comments on Wuhan's supplemental questionnaire response. On January 23, 2003, the Department extended the preliminary results of this new shipper review by 120 days until May 27, 2003. See Honey from the People's Republic of China: Extension of Time Limits for Preliminary Results of New Shipper Antidumping Duty Review, 68 FR 4761 (January 30, 2003). On January 31, 2003, we issued a second supplemental questionnaire to Wuhan. On February 25, 2003, we received Wuhan's second supplemental questionnaire response. On February 28, 2003, the Department provided the parties with an opportunity to submit publicly available information regarding surrogate country selection and factors of production surrogate values for consideration in the preliminary results of this review. On March 4, 2003, petitioners submitted comments for consideration in the Department's verification of Wuhan's questionnaire responses. On March 5, 2003, Wuhan submitted a revision to its February 25, 2003, second supplemental questionnaire response. On March 14, 2003, through March 18, 2003, the Department conducted verification of Wuhan's responses. See “Verification” section below. On March 31, 2003 and April 18, 2003, petitioners, and Wuhan submitted publicly available information to value the factors of production and rebuttal comments. On April 28, 2003, Wuhan submitted additional comments with regard to new factual information submitted by petitioners in their April 18, 2003, rebuttal comments. On May 1, 2003, petitioners submitted additional arguments regarding the bona fides of Wuhan's sale and certain factors of production surrogate value information. On May 9, 2003, Wuhan submitted rebuttal comments to petitioners' bona fides arguments and certain factors of production surrogate value information. On May 15, 2003, petitioners submitted declarations executed by researchers that gathered information regarding the Indian honey industry. On May 19, 2003, petitioners responded to comments made by Wuhan in its May 9, 2003, submission.

² The American Honey Producers Association and the Sioux Honey Association are petitioners in this proceeding.

Scope of the Antidumping Duty Order

The products covered by this review are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise subject to this review is currently classifiable under subheadings 0409.00.00, 1702.90.90, and 2106.90.99 of the Harmonized Tariff Schedule of the United States (HTSUS). Although the HTSUS subheadings are provided for convenience and U.S. Customs Service (as of March 1, 2003, renamed the U.S. Bureau of Customs and Border Protection) (Customs) purposes, the Department's written description of the merchandise under order is dispositive.

Verification

As provided in section 782(i)(2) of the Act and section 351.307 of the Department's regulations, we conducted verification of the questionnaire responses of Wuhan. We used standard verification procedures, including on-site inspection of Wuhan's production facilities, its sales offices in Shanghai, and the examination of relevant sales and financial records. Our verification results are outlined in the New Shipper Review of Honey from the People's Republic of China (PRC) (A-570-863): Sales and Factors of Production Verification Report for Wuhan Bee Healthy Co., Ltd., dated April 22, 2003 (Wuhan Verification Report). A public version of this report is on file in the Central Records Unit (CRU) located in room B-099 of the Main Commerce Building.

New Shipper Status

Based on questionnaire responses submitted by Wuhan, and our verification thereof, we preliminarily determine that Wuhan has met the requirements to qualify as a new shipper during the POR. We have determined that Wuhan made its first sale and/or shipment of subject merchandise to the United States during the POR, and that Wuhan was not affiliated with any exporter or producer that previously shipped to the United States.

In submissions dated December 20, 2002 and March 4, 2003, petitioners allege that Wuhan's sale to the United States during the POR does not reflect a bona fide commercial transaction. Petitioners argue that the quantity of Wuhan's sale appears to be unusual because bulk honey is traded internationally in ocean-going full container load lots. In its February 25, 2003, second supplemental questionnaire response, Wuhan explains that its first sale to the United States was less than a full container load because of commercial factors unique to the U.S. market at the time the sale was made (i.e., thorough testing of PRC honey for antibiotics and the application of an antidumping duty margin of 183 percent). Nonetheless, Wuhan argues that the amount shipped is still significant and represents a viable commercial quantity for a sale of honey.

In a submission dated May 1, 2003, petitioners submitted additional arguments regarding the bona fides of Wuhan's transaction. In particular, petitioners argue that the unreasonably high price paid for Wuhan's sale of subject merchandise to the United States demonstrates that the reported sale is not bona fide. Petitioners contend that the sale price is significantly higher than prevailing prices at which other PRC producers and exporters sold honey to U.S. customers during the POR. Thus, petitioners argue that Wuhan's U.S. customer could have obtained the same quality product from other PRC exporters for a substantially lower price. On May 9, 2003, Wuhan submitted rebuttal comments to petitioners' bona fides allegations. Specifically, Wuhan argues that petitioners' claims that its sale under review was not bona fide require the Department to (1) ignore verified evidence of subsequent sales by Wuhan at even higher prices, and (2) reject Wuhan's rational explanation of the reasons why its first sale consisted of a less-than-full container-load and a proper reading of the law regarding the deposit requirement prior to initiation of a new shipper review.

As an initial matter, the Department examined the average unit values (AUVs) of imports into the United States of comparable merchandise from the PRC during the POR. We note that in comparison to shipments from other PRC honey exporters/producers, the quantity of Wuhan's shipment is among the lowest and its price is among the highest.

Due to the time constraints in issuing these preliminary results, the Department was unable to complete its analysis with respect to Wuhan's pricing and terms of sale to the United States nor fully analyze submissions from petitioners and respondent dated May 1, 2003 and after. We intend to fully examine all issues pertaining to the bona fides of Wuhan's transaction, including the relationship between Wuhan's sale and imports into the United States of other PRC honey producers/exporters, for purposes of the final results of this review.

In summary, for purposes of these preliminary results of review, we are treating Wuhan's sale of honey to the United States as a bona fide transaction. However, as noted above, the Department intends to continue to carefully examine this issue for the final results of this review.

Separate Rates

In proceedings involving NME countries, the Department begins with a presumption that all companies within the country are subject to government control and, thus, should be assigned a single antidumping duty rate unless an exporter can affirmatively demonstrate an absence of government control, both in law (de jure) and in fact (de facto), with respect to its export activities. In this review, Wuhan requested a separate company-specific rate.

To establish whether a company is sufficiently independent in its export activities from government control to be entitled to a separate, company-specific rate, the Department analyzes the exporting entity in an NME country under the test established in the Final Determination of Sales at Less Than Fair Value: Sparklers from the People's Republic of China, 56 FR 20588, 20589 (May 6, 1991) (Sparklers), and amplified by the Final Determination of Sales at Less Than Fair Value: Silicon Carbide from the People's Republic of China, 59 FR 22585, 22586-22587 (May 2, 1994) (Silicon Carbide).

The Department's separate-rate test is unconcerned, in general, with macroeconomic/ border-type controls (e.g., export licenses, quotas, and minimum export prices), particularly if these controls are imposed to prevent dumping. The test focuses, rather, on controls over the investment, pricing, and output decision-making process at the individual firm level. See, e.g., Certain Cut-to-Length Carbon Steel Plate from Ukraine: Final Determination of Sales at Less Than Fair Value, 62 FR 61754, 61757 (November 19, 1997); Tapered Roller Bearings and Parts Thereof, Finished and Unfinished, from the People's Republic of China: Final Results of Antidumping Duty Administrative Review, 62 FR 61276, 61279 (November 17, 1997); and Honey from the People's Republic of China: Preliminary Determination of Sales at Less Than Fair Value, 60 FR 14725, 14726 (March 20, 1995).

Wuhan provided separate-rate information in its responses to our original and supplemental questionnaires. Accordingly, we performed a separate-rates analysis to determine whether this producer/exporter is independent from government control (see Notice of Final Determination of Sales at Less Than Fair Value: Bicycles From the People's Republic of China, 61 FR 56570 (April 30, 1996)).

De Jure Control

The Department considers the following de jure criteria in determining whether an individual company may be granted a separate rate: (1) an absence of restrictive stipulations associated with an individual exporter's business and export licenses; (2) any legislative enactments decentralizing control of companies; and (3) any other formal measures by the government decentralizing control of companies. See Sparklers, 56 FR 20588, 20589.

Wuhan has placed on the record a number of documents to demonstrate absence of de jure control, including the “Foreign Trade Law of the People's Republic of China” (May 12, 1994) and the “Administrative Regulations of the People's Republic of China Governing the Registration of Legal Corporations” (June 3, 1998). The Department has analyzed such PRC laws and found that they establish an absence of de jure control. See, e.g., Preliminary Results of New Shipper Review: Certain Preserved Mushrooms From the People's Republic of China, 66 FR 30695, 30696 (June 7, 2001). At verification, we found that Wuhan's business license and “Certificate of Approval-For Enterprises with Foreign Trade Rights in the People's Republic of China” were granted in accordance with these laws. Moreover, the results of verification support the information provided regarding these PRC laws. See Wuhan Verification Report. Therefore, we preliminarily determine that there is an absence of de jure control over Wuhan's export activities.

De Facto Control

Typically, the Department considers four factors in evaluating whether a respondent is subject to de facto governmental control of its export functions: (1) Whether the export prices are set by, or subject to, the approval of a governmental authority; (2) whether the respondent has authority to negotiate and sign contracts, and other agreements; (3) whether the respondent has autonomy from the government in making decisions regarding the selection of its management; and (4) whether the respondent retains the proceeds of its export sales and makes independent decisions regarding disposition of profits or financing of losses. See Silicon Carbide at 22587.

As stated in previous cases, there is some evidence that certain enactments of the PRC central government have not been implemented uniformly among different sectors and/or jurisdictions in the PRC. See Silicon Carbide at 22586-22587. Therefore, the Department has determined that an analysis of de facto control is critical in determining whether respondents are, in fact, subject to a degree of governmental control which would preclude the Department from assigning separate rates.

Wuhan has asserted the following: (1) it is a privately-owned company; (2) there is no government participation in its setting of export prices; (3) its chief executive officer and authorized employees have the authority to bind sales contracts; (4) it does not have to notify any government authorities of its management selection; (5) there are no restrictions on the use of its export revenue; and (6) it is responsible for financing its own losses. Wuhan's questionnaire responses do not suggest that pricing is coordinated among exporters. Furthermore, our analysis of the responses during verification reveals no other information indicating the existence of government control. See Wuhan Verification Report, at 7-9. Consequently, because evidence on the record indicates an absence of government control, both in law and in fact, over the company's export activities, we preliminarily determine that Wuhan has met the criteria for the application of a separate rate. For further discussion of the Department's preliminary determination regarding the issuance of separate rates, see Separate Rates Decision Memorandum to Richard Weible, Office Director, AD/CVD Enforcement Group III, dated May 27, 2003, on file in the CRU located in room B-099 of the Main Commerce Building.

Normal Value Comparisons

To determine whether the respondent's sale of the subject merchandise to the United States was made at a price below normal value, we compared its United States price to normal value, as described in the “United States Price” and “Normal Value” sections of this notice.

United States Price

For Wuhan, we based the United States price on export price (EP) in accordance with section 772(a) of the Act, because the first sale to an unaffiliated purchaser was made prior to importation, and constructed export price (CEP) was not otherwise warranted by the facts on the record. We calculated EP based on the packed price from the exporter to the first unaffiliated customer in the United States. We deducted foreign inland freight and U.S. Customs duty expenses from the starting price (gross unit price), in accordance with section 772(c) of the Act.

Normal Value

Section 773(c)(1) of the Act provides that the Department shall determine normal value (NV) using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. Wuhan did not contest such treatment in this review. Accordingly, we have applied surrogate values to the factors of production to determine NV. See Factor Valuation Memorandum for the Preliminary Results of the Antidumping Duty New Shipper Review of Honey from the People's Republic of China, dated May 27, 2003 (Factor Valuation Memo). A public version of this memorandum is on file in the CRU located in room B-099 of the Main Commerce Building.

We calculated NV based on factors of production in accordance with section 773(c)(4) of the Act and section 351.408(c) of our regulations. Consistent with the original investigation of this order, we determine that India (1) is comparable to the PRC in level of economic development, and (2) is a significant producer of comparable merchandise. Accordingly, we valued the factors of production using publicly available information from India.

In selecting the surrogate values, we considered the quality, specificity, and contemporaneity of the data, in accordance with our practice. Where appropriate, we adjusted Indian import prices by adding foreign inland freight expenses to make them delivered prices. When we used Indian import values to value inputs sourced domestically by PRC suppliers, we added to Indian surrogate values a surrogate freight cost calculated using the shorter of the reported distance from the domestic supplier to the factory or the distance from the nearest port of export to the factory. This adjustment is in accordance with the Court of Appeals for the Federal Circuit's decision in Sigma Corp. v. United States, 117 F. 3d 1401 (Fed. Cir. 1997). When we used non-import surrogate values for factors sourced domestically by PRC suppliers, we based freight for inputs on the actual distance from the input supplier to the site at which the input was used. When we relied on Indian import values to value inputs, in accordance with the Department's practice, we excluded imports from both NMEs and countries deemed to have generally available export subsidies (i.e., Indonesia, Korea, and Thailand) from our surrogate value calculations. For those surrogate values not contemporaneous with the POR, we adjusted for inflation using the wholesale price indices for India, as published in the International Monetary Fund's publication, International Financial Statistics.

We valued the factors of production as follows:

To value raw honey, we used an average of the highest and lowest price for raw honey, as adjusted for inflation, stated in an article published in The Tribune of India on March 1, 2000, entitled, “Apiculture, a major foreign exchange earner” (later republished in The Agricultural Tribune on May 1, 2000). As noted above, petitioners and respondent submitted additional information on the record regarding the proper surrogate value for raw honey. Due to the time constraints in issuing these preliminary results, the Department was unable to fully analyze these additional submissions. However, the Department intends to continue to carefully examine this issue for the final results of this review.

To value beeswax, a raw honey by-product, we used the average per kilogram import value of beeswax into India for the POR.

To value coal, we relied upon Indian import values of “steam coal” for the period April 2001, through January 2002 as reported in the Monthly Statistics of the Foreign Trade of India, Volume II: Imports (Monthly Statistics), as adjusted for inflation for the period prior to the POR (April 2001 - November 2001). We also adjusted the surrogate value for coal to include freight costs incurred between the supplier and the factory. To value electricity, we used the 2000 total average price per kilowatt hour (KWH), adjusted for inflation, for “Electricity for Industry” as reported in the International Energy Agency's publication,Energy Prices and Taxes, Second Quarter, 2002. To value water, we used the average water tariff rate, adjusted for inflation, as reported in the Asian Development Bank's publication, Second Water Utilities Data Book: Asian and Pacific Region, 1997.

To value packing materials (i.e., paint and steel drums), we relied upon Indian import data under the Indian Customs' heading “3209,” and a price quote from an Indian steel drum manufacturer, respectively. We adjusted the surrogate value for steel drums to reflect inflation. We also adjusted the surrogate values of packing materials to include freight costs incurred between the supplier and the factory.

To value factory overhead, selling, general, and administrative expenses (SG&A), and profit, we relied upon publicly available information in the 2001-2002 annual report of the Mahabaleshwar Honey Producers Cooperative Society, Ltd. (MHPC), a producer of the subject merchandise in India. We applied these rates to the calculated cost of manufacture and cost of production.

For labor, we used the PRC regression-based wage rate at Import Administration's home page, Import Library, Expected Wages of Selected NME Countries, revised in September 2002, and corrected in February 2003. Because of the variability of wage rates in countries with similar per capita gross domestic products, section 351.408(c)(3) of the Department's regulations requires the use of a regression-based wage rate. The source of these wage rate data on the Import Administration's web site is the Year Book of Labour Statistics 2001, International Labour Office (Geneva: 2001), Chapter 5B: Wages in Manufacturing.

To value truck freight, we used an average truck freight cost based on Indian market truck freight rates on a per MT basis published in the Iron and Steel Newsletter, April 2002. To value rail freight, we used an average rail freight cost based on rail freight costs of transporting molasses to various cities within India as stated on the Indian Railways' website (Indian Government Agency).

For details on factor of production valuation calcuations, see Factor Valuation Memo.

Currency Conversion

We made currency conversions pursuant to section 351.415 of the Department's regulations at the rates certified by the Federal Reserve Bank.

Preliminary Results of Review

We preliminarily determine that the following antidumping duty margin exists:

Manufacturer and Exporter | POR | Margin (percent)
Wuhan Bee Healthy Co., Ltd. | 12/01/01 - 05/31/02 | 9.66

For details on the calculation of the antidumping duty margin, see the Analysis Memorandum for the Preliminary Results of the Antidumping Duty New Shipper Review of Honey from the People's Republic of China, dated May 27, 2003. A public version of this memorandum is on file in the CRU.

Assessment Rates

Pursuant to section 351.212(b), the Department calculates an assessment rate for each importer of the subject merchandise. Upon issuance of the final results of this new shipper review, if any importer-specific assessment rates calculated in the final results are above de minimis (i.e., at or above 0.5 percent), the Department will issue appraisement instructions directly to Customs to assess antidumping duties on appropriate entries by applying the assessment rate to the entered value of the merchandise. For assessment purposes, we calculated importer-specific assessment rates for the subject merchandise by aggregating the dumping duties due for all U.S. sales to each importer and dividing the amount by the total entered value of the sales to that importer. If these preliminary results are adopted in our final results of review, we will direct Customs to assess the resulting rate against the entered customs value for the subject merchandise on each of Wuhan's importer's/customer's entries during the POR.

Cash-Deposit Requirements

Wuhan may continue to post a bond or other security in lieu of cash deposits for each entry of subject merchandise produced and exported by Wuhan. Bonding will no longer be permitted to fulfill security requirements for Wuhan's shipments after publication of the final results of this new shipper review. The following cash-deposit rate will be effective upon publication of the final results of this new shipper review for all shipments of honey from the PRC entered, or withdrawn from warehouse, for consumption on or after publication date, as provided for by section 751(a)(2)(C) of the Act: (1) for subject merchandise produced and exported by Wuhan, the cash-deposit rate will be that established in the final results of this review; (2) for all other subject merchandise exported by Wuhan, the cash-deposit rate will be the PRC country-wide rate, which is 183.80 percent; (3) for all other PRC exporters which have not been found to be entitled to a separate rate, the cash-deposit rate will be the PRC country-wide rate; and (4) for all non-PRC exporters of subject merchandise, the cash-deposit rate will be the rate applicable to the PRC exporter that supplied that exporter. These deposit requirements, when imposed, shall remain in effect until publication of the final results of the next administrative review.

Schedule for Final Results of Review

The Department will disclose calculations performed in connection with the preliminary results of this review within five days of the date of publication of this notice in accordance with section 351.224(b). Any interested party may request a hearing within 30 days of publication of this notice in accordance with section 351.310(c) of the Department's regulations. Any hearing would normally be held 37 days after the publication of this notice, or the first workday thereafter, at the U.S. Department of Commerce, 14th Street and Constitution Avenue, NW, Washington, DC 20230. Individuals who wish to request a hearing must submit a written request within 30 days of the publication of this notice in the Federal Register to the Assistant Secretary for Import Administration, U.S. Department of Commerce, Room 1870, 14th Street and Constitution Avenue, NW, Washington, DC 20230. Requests for a public hearing should contain: (1) the party's name, address, and telephone number; (2) the number of participants; and (3) to the extent practicable, an identification of the arguments to be raised at the hearing.

Unless otherwise notified by the Department, interested parties may submit case briefs within 30 days of the date of publication of this notice in accordance with section 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing within 48 hours before the scheduled time. The Department will issue the final results of this new shipper review, which will include the results of its analysis of issues raised in the briefs, within 90 days from the date of the preliminary results, unless the time limit is extended.

Notification to Importers

This notice also serves as a preliminary reminder to importers of their responsibility under section 351.402(f) of the Department's regulations to file a certificate regarding the reimbursement of antidumping duties prior to liquidation of the relevant entries during these review periods. Failure to comply with this requirement could result in the Secretary's presumption that reimbursement of antidumping duties occurred and the subsequent assessment of double antidumping duties.

This new shipper review and this notice are published in accordance with sections 751(a)(2)(B) and 777(i)(1) of the Act.

Dated: May 27, 2003.
Joseph A. Spetrini,
Acting Assistant Secretary for Import Administration.

[FR Doc. 03-13881 Filed 6-2-03; 8:45 am]

BILLING CODE 3510-DS-S